DEPARTMENT OF ENERGY

Extension of a Currently Approved Information Collection for the Weatherization and Intergovernmental Programs

AGENCY: Office of Energy Efficiency and Renewable Energy, U.S. Department of Energy.

ACTION: Notice and request for comments.

SUMMARY: The Department of Energy (DOE), pursuant to the Paperwork Reduction Act of 1995, intends to extend for three years, an information collection request with the Office of Management and Budget (OMB). The information collection request, Historic Preservation for Energy Efficiency Programs, was initially approved on December 1, 2010 under OMB Control No. 1910-5155 and was reinstated on September 12, 2016. The current expiration date is September 30, 2019. The extension of this currently approved information collection, will allow DOE to continue data collection on the status of the Weatherization Assistance Program (WAP), the State Energy Program (SEP), and the Energy Efficiency and Conservation Block Grant (EECBG) program.

DATES: Comments regarding this collection must be received on or before July 5, 2019. If you anticipate that you will be submitting comments, but find it difficult to do so within the period of time allowed by this notice, please advise the OMB Desk Officer of your intention to make a submission as soon as possible. The Desk Officer may be telephoned at (202) 395-4650.

ADDRESSES: Written comments should be sent to the

DOE Desk Officer, Office of Information and Regulatory Affairs, Office of Management and Budget, New Executive Office Building, Room 10102, 735 17th Street NW, Washington, DC 20503

and to

Christine Askew, EE-5W, U.S. Department of Energy, 1000 Independence Ave. SW, Washington, DC 20585, Email: Christine.Askew@ee.doe.gov

FOR FURTHER INFORMATION CONTACT: Requests for additional information or copies of the information collection instrument and instructions should be directed to: Christine Askew, EE-5W, U.S. Department of Energy, 1000 Independence Ave. SW, Washington, DC 20585-1290, Phone: (202) 586-8224, Fax: (202) 287-1992, Email: Christine.Askew@ee.doe.gov.

Additional information and reporting guidance concerning the Historic Preservation reporting requirement for the WAP, SEP, and EECBG programs are available for review at: https://www.energy.gov/eere/wipo/downloads/wpn-10-12-historic-preservation-implementation.

SUPPLEMENTARY INFORMATION: Programs will ensure compliance with the National Historic Preservation Act (NHPA). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. This information collection request contains: (1) OMB No.: 1910-5155; (2) Information Collection Request Title: “Historic Preservation for Energy Efficiency Programs”; (3) Type of Review: Extension of a Currently Approved Information Collection; (4) Purpose: To collect information on the status of Weatherization Assistance Program, State Energy Program, and Energy Efficiency and Conservation Block Grant Program activities; (5) Annual Estimated Number of Respondents: 275; (6) Annual Estimated Number of Total Responses: 275; (7) Annual Estimated Number of Burden Hours: 662; (8) Annual Estimated Reporting and Recordkeeping Cost Burden: $0.

Statutory Authority: Title V, National Historic Preservation Act of 1966, Pub. L. 89-665 as amended (16 U.S.C. 470 et seq.).

Issued in Washington, DC, May 23, 2019.
AnnaMaria Garcia,
Director, Weatherization and Intergovernmental Programs, Energy Efficiency and Renewable Energy, U.S. Department of Energy.

[FR Doc. 2019-11611 Filed 6-3-19; 8:45 am]

BILLING CODE 6450-01-P